INTERNATIONAL TRADE COMMISSION

[Investigation No. 337-TA-830]

Certain Dimmable Compact Fluorescent Lamps and Products Containing Same; Termination of an Investigation

AGENCY: U.S. International Trade Commission.

ACTION: Notice.

SUMMARY: Notice is hereby given that the U.S. International Trade Commission has determined to grant motions to terminate the above-captioned investigation as to the two remaining respondents on the basis of settlement and withdrawal of the complaint, resulting in termination of the investigation in its entirety.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on February 27, 2012, based on a complaint filed by Andrzej Bobel and Neptun Light, Inc., both of Lake Forest, Illinois (collectively, “Neptun”). 77 FR 11587 (Feb. 27, 2012). The complaint alleged violations of section 337 of the Tariff Act of 1930, as amended 19 U.S.C. 1337, by reason of the infringement of certain claims of United States Patent Nos. 5,434,480 (“the '480 patent”) and 8,035,318 (“the '318 patent”). The complaint named numerous respondents, many of whom have been terminated from the investigation on the basis of settlement agreement, consent order, or withdrawal of the complaint. By the time of the Administrative Law Judge's final Initial Determination (“ID”), the remaining respondents were: Technical Consumer Products, Inc. of Aurora, Ohio; Shanghai Qiangling Electronics Co., Ltd. of Shanghai, China; Zhejiang Qiang Ling Electronic Co. Ltd. of Zhenjiang, China (collectively, “TCP”); U Lighting America Inc. of San Jose, California (“ULA”); and Golden U Lighting Manufacturing (Shenzhen) of Shenzhen, China (“Golden U”). Claim 9 of the '480 patent has been asserted against ULA and Golden U, and claims 1 and 12 of the '318 patent have been asserted against TCP.

On February 27, 2013, the ALJ issued his final Initial Determination (“ID”). The ID found Golden U in default, but found no violation of section 337 as to all remaining respondents on the basis of Neptun's failure to satisfy the economic prong of the domestic industry requirement of section 337. The ALJ also found that respondent TCP's accused products do not infringe the asserted claims of the '318 patent.

On March 12, 2013, Neptun filed a petition for review of the ID; TCP and ULA each filed a contingent petition for review of the ID. On March 20, 2013, Neptun opposed TCP's and ULA's petitions, and TCP and ULA each opposed Neptun's petition. On April 3, 2013, the Commission extended the whether-to-review deadline and the target date by approximately six weeks. Notice (Apr. 3, 2013).

On June 10, 2013, Neptun and TCP filed an unopposed joint motion to terminate the investigation as to TCP on the basis of a settlement agreement between Neptun and TCP. On June 12, 2013, the Commission issued a notice terminating the investigation as to TCP. That notice also determined to review, inter alia, the ALJ's finding that Neptun did not demonstrate the existence of a domestic industry. On June 25, 2013, Neptun and ULA filed briefs in response to the Commission notice. Neptun and ULA subsequently requested extensions of time for the filing of replies in order to enable them to submit a motion terminating the investigation against ULA.

On July 10, 2013, Neptun and ULA moved to terminate the investigation against ULA on the basis of a settlement agreement. On July 15, 2013, Neptun moved to terminate the investigation against Golden U on the basis of withdrawal of the complaint. Termination against these two respondents results in termination of the investigation. The Commission has determined that termination as to the remaining respondents is in the public interest, and the Commission has determined to grant both motions. The Commission thereby terminates the investigation.

The authority for the Commission's determination is contained in section 337 of the Tariff Act of 1930, as amended (19 U.S.C. 1337), and in sections 210.21 and 210.42-46 of the Commission's Rules of Practice and Procedure (19 CFR 210.21, 210.42-46).

By order of the Commission.
Issued: July 26, 2013.
Lisa R. Barton,
Acting Secretary to the Commission.

[FR Doc. 2013-18392 Filed 7-30-13; 8:45 am]

BILLING CODE 7020-02-P